DEPARTMENT OF ENERGY

Federal Energy Regulatory Commission

Combined Notice of Filings

Take notice that the Commission has received the following Natural Gas Pipeline Rate and Refund Report filings:

Filings Instituting Procedures

Docket Number: PR19-25-000.

Applicants: Columbia Gas of Ohio, Inc.

Description: Tariff filing per 284.123(b),(e)/: Revised Statement of Operating Conditions to be effective 11/29/2018.

Filed Date: 12/12/18.

Accession Number: 20181212-5029.

Comments Due: 5 p.m. ET 1/2/19.

Docket Number: RP19-86-001.

Applicants: Southern Natural Gas Company, LLC.

Description: Tariff filing per 154.203: OFO Penalty Revisions-Compliance to be effective 11/29/2018.

Filed Date: 12/6/18.

Accession Number: 20181206-5286.

Comments Due: 5 p.m. ET 12/18/18.

Docket Numbers: RP19-261-001.

Applicants: Blue Lake Gas Storage Company.

Description: Tariff filing per 154.203: Blue Lake 501-G Settlement Implementation to be effective 1/1/2019.

Filed Date: 12/7/2018.

Accession Number: 20181207-5139.

Comments Due: 5 p.m. ET 12/19/18.

Docket Numbers: RP19-455-000.

Applicants: Northern Natural Gas Company.

Description: § 4(d) Rate Filing: 20181211 Negotiated Rate to be effective 12/11/2018.

Filed Date: 2/11/18.

Accession Number: 20181211-5114.

Comments Due: 5 p.m. ET 12/24/18.

Docket Numbers: RP19-456-000.

Applicants: Rockies Express Pipeline LLC.

Description: Rockies Express Pipeline LLC submits tariff filing per 154.204: Neg Rate 2018-12-11 BHS (2) to be effective 12/11/2018.

Filed Date: 12/11/18.

Accession Number: 20181211-5146.

Comments Due: 5 p.m. ET 12/24/18.

Docket Numbers: RP19-457-000.

Applicants: Tennessee Gas Pipeline Company, L.L.C.

Description: § 4(d) Rate Filing: Volume No. 2-Shell Energy North America SP341623 to be effective 1/1/2019.

Filed Date: 12/12/18.

Accession Number: 20181212-5025.

Comments Due: 5 p.m. ET 12/24/18.

Docket Numbers: RP19-458-000.

Applicants: Tennessee Gas Pipeline Company, L.L.C.

Description: § 4(d) Rate Filing: Volume No. 2-Shell Energy North America SP341624 to be effective 1/1/2019.

Filed Date: 12/12/18.

Accession Number: 20181212-5032.

Comments Due: 5 p.m. ET 12/24/18.

Docket Numbers: RP19-459-000.

Applicants: Southern Star Central Gas Pipeline, Inc.

Description: Compliance filing Limited Tariff Waiver due to Shippers' Mutual Capacity Release Mistake-KGS OER to be effective N/A.

Filed Date: 12/12/18.

Accession Number: 20181212-5072.

Comments Due: 5 p.m. ET 12/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2018.
Nathaniel J. Davis, Sr.,
Deputy Secretary.

[FR Doc. 2018-27474 Filed 12-18-18; 8:45 am]

BILLING CODE 6717-01-P